DEPARTMENT OF ENERGY

Federal Energy Regulatory Commission

[Project No. 14227-003]

Notice of Application Accepted for Filing and Soliciting Motions To Intervene and Protests; Nevada Hydro Company, Inc.

Take notice that the following hydroelectric application has been filed with the Commission and is available for public inspection. Commission staff has determined that this project qualifies as a Major Infrastructure Project pursuant to the Memorandum of Understanding Implementing One Federal Decision under Executive Order 13807 (MOU) effective April 10, 2018. Major Infrastructure Projects are defined as projects for which multiple authorizations by Federal agencies will be required and the lead Federal agency has determined that it will prepare an Environmental Impact Statement under the National Environmental Policy Act, 42 U.S.C. 4321 et seq.

a. Type of Application: Major Unconstructed Project.

b. Project No.: P-14227-003.

c. Date filed: October 2, 2017.

d. Applicant: Nevada Hydro Company, Inc.

e. Name of Project: Lake Elsinore Advanced Pumped Storage (LEAPS) Project

f. Location: On Lake Elsinore and San Juan Creek near the town of Lake Elsinore in Riverside and San Diego Counties, California. The project would occupy about 845 acres of federal land administered by the U.S. Forest Service.

g. Filed Pursuant to: 18 CFR part 4 of the Commission's Regulations

h. Applicant Contact: Rexford Wait, Nevada Hydro Company, Inc., 2416 Cades Way Vista, California (760) 599-1815.

i. FERC Contact: Jim Fargo at (202) 502-6095 or email at james.fargo@ferc.gov.

j. Deadline for filing motions to intervene and protests: 60 days from the issuance date of this notice.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14227-003.

The Commission's Rules of Practice and Procedures require all intervenors filing documents with the Commission to serve a copy of that document on each person on the official service list for the project. Further, if an intervenor files comments or documents with the Commission relating to the merits of an issue that may affect the responsibilities of a particular resource agency, they must also serve a copy of the document on that resource agency.

k. This application has been accepted for filing, but is not ready for environmental analysis at this time.

The proposed project would consist of the following: (1) A new upper reservoir (Decker Canyon) having a 200-foot-high main dam and a gross storage volume of 5,750 acre-feet, at a normal reservoir surface elevation of 2,792 feet above mean sea level (msl); (2) a powerhouse with two reversible pump-turbine units with a total installed capacity of 500 megawatts; (3) the existing Lake Elsinore to be used as a lower reservoir; (4) about 32 miles of 500-kV transmission line connecting the project to an existing transmission line owned by Southern California Edison located north of the proposed project and to an existing San Diego Gas & Electric Company transmission line located to the south.

l. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

m. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

When the application is ready for environmental analysis, the Commission will issue a public notice requesting comments, recommendations, terms and conditions, or prescriptions.

All filings must (1) bear in all capital letters the title PROTEST or MOTION TO INTERVENE, NOTICE OF INTENT TO FILE COMPETING APPLICATION, or COMPETING APPLICATION; (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Dated: July 26, 2019.
Nathaniel J. Davis, Sr.,
Deputy Secretary.

[FR Doc. 2019-16462 Filed 8-1-19; 8:45 am]

BILLING CODE 6717-01-P